DEPARTMENT OF HEALTH AND HUMAN SERVICES

Food and Drug Administration

Request for Nominations for Members of Public Advisory Committee; Food Advisory Committee

AGENCY: Food and Drug Administration, HHS.

ACTION: Notice.

SUMMARY: The Food and Drug Administration (FDA) is requesting nominations for members to serve on the Food Advisory Committee (the Committee) in FDA's Center for Food Safety and Applied Nutrition (CFSAN) and six subcommittees. Nominations will be accepted for current vacancies and vacancies that will or may occur on the Committee during the next 12 months.

FDA has special interest in ensuring that women, minority groups, and individuals with disabilities are adequately represented on advisory committees and, therefore, encourages nominations from these groups. Final selection from among qualified candidates for each vacancy will be determined by the expertise required to meet specific agency needs and in a manner to ensure appropriate balance of membership.

DATES: September 3, 2002.

ADDRESSES: All nominations for membership should be sent to Catherine M. DeRoever (see FOR FURTHER INFORMATION CONTACT).

FOR FURTHER INFORMATION CONTACT: Regarding all nominations for membership: Catherine M. DeRoever, Center for Food Safety and Applied Nutrition (HFS-6), Food and Drug Administration, 5100 Paint Branch Pkwy., College Park, MD 20740, 301-436-2397, FAX 301-436-2633, e-mail: Catherine.DeRoever@cfsan.fda.gov.

SUPPLEMENTARY INFORMATION: FDA is requesting nominations for members to serve on the advisory committees listed below. Individuals should have expertise in the activity of the Committee. Vacancies will begin June 30, 2002.

Food Advisory Committee

The Committee provides advice primarily to the Director, Center for Food Safety and Applied Nutrition (CFSAN), and as needed, to the Commissioner of Food and Drugs (the Commissioner), and other appropriate officials, on emerging food safety, food science, nutrition, and other food-related issues that FDA considers of primary importance for its food and cosmetics program. The Committee may be charged with reviewing and evaluating available data and making recommendations on matters such as those relating to: (1) Broad scientific and technical food or cosmetic related issues, (2) the safety of new foods and food ingredients, (3) labeling of foods and cosmetics, (4) nutrient needs and nutritional adequacy, and (5) safe exposure limits for food contaminants. The Committee also may be asked to provide advice and make recommendations on ways of communicating to the public the potential risks associated with these issues and on approaches that might be considered for addressing the issues.

The Committee was restructured on July 28, 2000, to consist of a “parent” Committee and four standing Subcommittees. The Subcommittees are as follows: (1) Additives and Ingredients, (2) Contaminants and Natural Toxicants, (3) Dietary Supplements, and (4) Food Biotechnology. Two additional Subcommittees are being added to the “parent” Committee: (1) Infant Formula, and (2) Nutrition.

The purpose of the new Subcommittees is to provide highly specialized expertise in the review and analysis of assigned topics. Meetings of the subcommittees will be open to the public except as otherwise determined by the Commissioner or designee. The Subcommittee's findings, conclusions, and recommendations will be reported to the “parent” Committee. As a general matter, included in this report will be a recommendation(s) from the Subcommittee on the final disposition of an assigned topic. Generally, matters that cross-cut agency program areas will fall under the purview of the “parent” Committee. Issues relating to the microbiological safety of food will be addressed by the National Advisory Committee on Microbiological Criteria for Foods.

Criteria for Members

Persons nominated for membership on the Committee shall be knowledgeable in the fields of physical sciences, biological and life sciences, food science, risk assessment and other relevant scientific and technical disciplines. The agency particularly is interested in considering candidates with a comprehensive background in food technology, molecular biology, genetics, biotechnology, and a variety of medical specialties, as many issues brought before the Committee involve medical or epidemiological impact on nutrients, additives, contaminants, or other constituents of the diet, such as dietary supplements. The term of office is up to 4 years.

The Committee includes technically qualified members who are identified with consumer interests and representatives of industry interests.

Nomination Procedures

Interested persons may nominate one or more qualified persons for membership on the Committee. Nominations shall state that the nominee is willing to serve as a member of the Committee and appears to have no conflict of interest that would preclude Committee membership. Additionally, the nominee's mailing address, telephone number, and curriculum vitae must accompany the nomination. The agency cannot guarantee further consideration of nominations that do not include this requested information. Potential candidates will be asked by FDA to provide detailed information concerning such matters as financial holdings, employment, consultancies, and research grants and/or contracts to permit evaluation of possible sources of conflicts of interest.

Industry Representatives

Regarding nominations for members representing industry interests, a letter will be sent to each person or organization that has made a nomination and to other organizations that have expressed an interest in participating in the selection process together with a complete list of all such organizations and the nominees. The letter will state that it is the responsibility of each nominator or organization that has expressed an interest in participating in the selection process to consult with their peers to provide their selections representing industry interests within 60 days. In the event that selections have not been provided to FDA within 60 days, the Commissioner may select an industry representative for each such vacancy from the list of industry nominees. The agency is interested in nominees that possess the scientific credentials needed to participate fully and knowledgeably in the Committee's deliberations and had special insight into, and direct experience in, specific industrywide issues, practices, and concerns that might not otherwise be available to others not similarly situated.

This notice is issued under the Federal Advisory Committee Act (5 U.S.C. app. 2) and 21 CFR part 14, relating to advisory committees.

Dated: July 23, 2002.
Linda Arey Skladany,
Senior Associate Commissioner for External Relations.

[FR Doc. 02-19494 Filed 8-1-02; 8:45 am]

BILLING CODE 4160-01-S